DEPARTMENT OF DEFENSE

Office of the Secretary

[Transmittal No. 22-63]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-63, Policy Justification, and Sensitivity of Technology.

Dated: August 12, 2024.
Patricia L. Toppings,
OSD Federal Register Liaison Officer, Department of Defense.

BILLING CODE 6001-FR-P

BILLING CODE 6001-FR-C

Transmittal No. 22-63

Notice of Proposed Issuance of Letter of Offer Pursuant to Section 36(b)(1) of the Arms Export Control Act, as amended

(i) Prospective Purchaser: Government of Belgium

(ii) Total Estimated Value:

Major Defense Equipment * | $358 million
Other | $ 22 million
TOTAL | $380 million

(iii) Description and Quantity or Quantities of Articles or Services under Consideration for Purchase:

Major Defense Equipment (MDE):

Up to one hundred twenty (120) AIM-120C-8 Advanced Medium Range Air-to-Air Missiles (AMRAAM)

Ten (10) AMRAAM C-8 Guidance Sections

Non-MDE:

Also included are spare AIM-120 control sections and containers; AIM-120C Captive Air Training Missiles (CATM); other spare parts, consumables, accessories, and repair/return support; classified software; books, technical documentation, and other publications; training and training equipment; munitions support and support equipment; and other related elements of logistical and program support.

(iv) Military Department: Air Force (BE-D-YCG)

(v) Prior Related Cases, if any: N/A

(vi) Sales Commission, Fee, etc., Paid, Offered, or Agreed to be Paid: None known at this time

(vii) Sensitivity of Technology Contained in the Defense Article or Defense Services Proposed to be Sold: See Attached Annex

(viii) Date Report Delivered to Congress: November 8, 2022

* As defined in Section 47(6) of the Arms Export Control Act.

POLICY JUSTIFICATION

Belgium—Advanced Medium Range Air-to-Air Missiles for F-16 and F-35 Programs

The Government of Belgium has requested to buy up to one hundred twenty (120) AIM-120C-8 Advanced Medium Range Air-to-Air Missiles (AMRAAM); and ten (10) AMRAAM C-8 Guidance Sections. Also included are spare AIM-120 control sections and containers; AIM-120C Captive Air Training Missiles (CATM); other spare parts, consumables, accessories, and repair/return support; classified software; books, technical documentation, and other publications; training and training equipment; munitions support and support equipment; and other related elements of logistical and program support. The estimated total cost is $380 million.

This proposed sale will support the foreign policy and national security objectives of the United States by improving the security of a NATO Ally which is an important force for political stability and economic progress in Europe.

The proposed sale will improve Belgium's capability to meet current and future threats by maintaining its F-16 and F-35 fleets in combat-ready status and providing a credible deterrent to regional threats. Belgium will have no difficulty absorbing these articles and services into its armed forces.

The proposed sale of this equipment and support will not alter the basic military balance in the region.

The principal contractor will be Raytheon Missile Systems, Tucson, AZ. There are no known offset agreements proposed in connection with this potential sale.

Implementation of this proposed sale will not require the assignment of any additional U.S. Government or contractor representatives to Belgium.

There will be no adverse impact on U.S. defense readiness as a result of this proposed sale.

Transmittal No. 22-63

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air launched, aerial intercept, guided missile featuring digital technology and micro-miniature solid-state electronics. AMRAAM capabilities include look-down/shoot-down, multiple launches against multiple targets, resistance to electronic countermeasures, and interception of high and low-flying and maneuvering targets. This potential sale will include Captive Air Training Missiles (CATM) as well as AMRAAM guidance section and control section spares.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Belgium can provide substantially the same degree of protection for the sensitive technology being released as the U.S. Government. This sale is necessary in furtherance of the U.S. foreign policy and national security objectives outlined in the Policy Justification.

5. All defense articles and services listed in this transmittal have been authorized for release and export to Belgium.

[FR Doc. 2024-18294 Filed 8-14-24; 8:45 am]

BILLING CODE 6001-FR-P